ENVIRONMENTAL PROTECTION AGENCY

[MN87; FRL-7949-4]

Notice of Issuance of Prevention of Significant Deterioration Construction Permit and Part 71 Federal Operating Permit to Great Lakes Gas Transmission L.P.

AGENCY: Environmental Protection Agency.

ACTION: Notice.

SUMMARY: This notice announces that, on June 30, 2005, pursuant to Titles I and V of the Clean Air Act, 42 U.S.C. 7401-7479 and 7501-7515, the Environmental Protection Agency (EPA), Region 5 issued a Prevention of Significant Deterioration Construction Permit (PSD permit) and a Title V Permit to Operate (Title V permit) to Great Lakes Gas Transmission L.P. (Great Lakes). These permits authorize the company to construct and operate Compressor Station No. 5 (CS #5), one of five Great Lakes compressor stations located in Minnesota. Although these permits authorize the company to construct and operate, the source previously had sought and been issued a construction permit by the Minnesota Pollution Control Agency (MPCA). The federal construction permit supersedes the previously issued MPCA permit.

The compressor station is composed of three natural gas-fired turbines and one natural gas-fired standby electrical generator, which the source uses to add pressure along a natural gas pipeline. The turbines are located in Cloquet, Minnesota on privately-owned fee land within the exterior boundaries of the Fond du Lac Band of Lake Superior Chippewa Indian Reservation.

DATES: During the public comment period, ending May 16, 2005, EPA received no comments on either the draft PSD or Title V permit. Therefore, in accordance with 40 CFR 124.15 and 71.11(i)(2)(iii), both permits became effective immediately upon permit issuance, June 30, 2005.

ADDRESSES: The final signed permits are available for public inspection online at http://www.epa.gov/region5/air/permits/epermits.htm or during normal business hours at the following address: EPA, Region 5, 77 West Jackson Boulevard (AR-18J), Chicago, Illinois 60604.

FOR FURTHER INFORMATION CONTACT: Ethan Chatfield, EPA, Region 5, 77 W. Jackson Boulevard (AR-18J), Chicago, Illinois 60604, (312) 886-5112, or chatfield.ethan@epa.gov.

SUPPLEMENTARY INFORMATION: This supplemental information is organized as follows:

A. What Is the Background Information?

B. What Action Is EPA Taking?

A. What Is the Background Information?

Great Lakes operates nearly 2,000 miles of large diameter underground pipeline, through which it transports natural gas for delivery to customers in the midwest and northeast United States and eastern Canada. The pipeline's 14 compressor stations, located approximately 75 miles apart, operate to keep natural gas moving through the system. Compressors operated at these stations add pressure to natural gas in the pipeline, causing it to flow to the next compressor station. The pipeline normally operates continuously, but at varying load, 24 hours per day and 365 days per year.

CS #5 is located approximately 17 miles west of Cloquet, Minnesota, near the intersection of county roads 847 and 851, on the Fond du Lac Band of Lake Superior Chippewa Indian Reservation in St. Louis County, Minnesota. The station consists of three stationary natural gas-fired turbines (EU-001 through EU-003), which drive three natural gas compressors, and one natural gas-fired standby electrical generator (EU-004), which provides electrical power for critical operations during temporary electrical power outages and during peak loading.

Since CS #5 is a major stationary source, Great Lakes was required to obtain a preconstruction permit under 40 CFR 52.21. Furthermore, because CS #5 is subject to section 111 of the Clean Air Act and is located in Indian Country, 40 CFR 71.3(a) and 71.4(b) make it subject to the permitting requirements of 40 CFR part 71. On June 30, 2005, EPA issued a PSD construction permit (PSD-FDL-R50001-04-01) and a federal Title V Permit (No. V-FDL-R50006-04-01) which incorporates all applicable air quality requirements, including monitoring sufficient to yield reliable data on the source's compliance with the permit. In accordance with the requirements of 40 CFR 71.11(d) and 124.10, EPA provided the public with the required 30 days to comment on the draft permit. EPA did not receive any comments during the public comment period.

B. What Action Is EPA Taking?

EPA is notifying the public of the issuance of the PSD and Title V permits to Great Lakes Gas Transmission L.P. Because EPA did not receive comments on the permits, only persons who demonstrate that there are new grounds for review that were not reasonably foreseeable during the public comment period may, within 30 days of the date of this notice, seek review of the Title V operating permit pursuant to 40 CFR 71.11.

Dated: July 22, 2005.
Bharat Mathur,
Acting Regional Administrator, Region 5.

[FR Doc. 05-15737 Filed 8-8-05; 8:45 am]

BILLING CODE 6560-50-P